FEDERAL RESERVE SYSTEM

Formations of, Acquisitions by, and Mergers of Bank Holding Companies

A. Federal Reserve Bank of Chicago (Colette A. Fried, Assistant Vice President) 230 South LaSalle Street, Chicago, Illinois 60690-1414:

1. The application under section 3 of the Bank Holding Company Act of 1956 by First Bancorp of Taylorville, Inc., Taylorville, Illinois, published on July 7, 2021 in 86 FR 35796 has been withdrawn.

Board of Governors of the Federal Reserve System, July 8, 2021.
Michele Taylor Fennell,
Deputy Associate Secretary of the Board.

[FR Doc. 2021-14861 Filed 7-12-21; 8:45 am]

BILLING CODE P